DEPARTMENT OF HEALTH AND HUMAN SERVICES

Health Resources and Services Administration

National Practitioner Data Bank: Change in User Fees

AGENCY: Health Resources and Services Administration, HHS.

ACTION: Notice.

SUMMARY: The Health Resources and Services Administration (HRSA), Department of Health and Human Services (HHS), is announcing a fifty cent increase in the fee charged to entities authorized to request information from the National Practitioner Data Bank (NPDB) for all queries. The new fee will be $4.75. There will be no change to the $8.00 self-query fee.

DATES: This change will be effective May 9, 2006.

FOR FURTHER INFORMATION CONTACT: Mark Pincus, Branch Chief, Practitioner Data Banks Branch, Office of Workforce Evaluation and Quality Assurance, Bureau of Health Professions, Health Resources and Services Administration, Parklawn Building, Rm 8C-103, 5600 Fishers Lane, Rockville, MD 20857, Tel: 301-443-2300, E-mail: policyanalysis@hrsa.gov.

SUPPLEMENTARY INFORMATION: The current fee structure ($4.25 per name) was announced in the Federal Register on April 22, 2003 (68 FR 19837) and became effective on July 1, 2003. All entity queries are submitted and query responses received through the NPDB's Integrated Query and Reporting Service (IQRS) and paid via an electronic funds transfer or credit card.

The NPDB is authorized by the Health Care Quality Improvement Act of 1986 (the Act), Title IV of Public Law 99-660, as amended (42 U.S.C. 11101 et seq.). Section 427(b)(4) of the Act authorizes the establishment of fees for the costs of processing requests for disclosure and of providing such information.

Final regulations at 45 CFR part 60 set forth the criteria and procedures for information to be reported to and disclosed by the NPDB. Section 60.3 of these regulations defines the terms used in this announcement.

In determining any changes in the amount of the user fee, the Department uses the criteria set forth in section 60.12(b) of the regulations, as well as allowable costs pursuant to Public Law 109-77, as amended, and Title II, Division F, Departments of Labor, Health and Human Services, and Education, and Related Agencies Appropriation Act for the Consolidated Appropriations Act, 2005, Public Law 108-447. These laws require that the Department recover the full costs of operating the Data Bank through user fees. Paragraph (b) of the regulations states:

“The amount of each fee will be determined based on the following criteria:

(1) Use of electronic data processing equipment to obtain information—the actual cost for the service, including computer search time, runs, printouts, and time of computer programmers and operators, or other employees, (2) Photocopying or other forms of reproduction, such as magnetic tapes—actual cost of the operator's time, plus the cost of the machine time and the materials used, (3) Postage—actual cost, and (4) Sending information by special methods requested by the applicant, such as express mail or electronic transfer—the actual cost of the special service.”

Based on analysis of the comparative costs of the various methods for filing and paying for queries, the Department is increasing all the entity query fees by $0.50 per name. The practitioner self-query fee remains at $8.00. This price increase is justified after an evaluation of the Data Bank's operational costs. At the current fee of $4.25, the Data Bank is unable to recover full costs of operation. In keeping with the Act, and pursuant to the requirements of section 60.12 of the regulations, there are not sufficient funds to recover the full costs of operating the Data Bank without a fee increase.

When a query is for information on one or more physicians, dentists or other health care practitioners, the appropriate fee will be $4.75 multiplied by the number of individuals about whom information is being requested. For examples, see the table below.

Query method | Fee per name in query | Examples
Entity query (via internet with electronic payment) | $4.75 | 10 names in query. 10 × $4.75 = $47.50.
Practitioner self-query | 8.00 | One self-query = $8.00.

The Department will continue to review the user fee periodically, and will revise it as necessary. Any changes in the fee and their effective date will be announced in the Federal Register.

Dated: March 3, 2006.
Elizabeth M. Duke,
Administrator.

[FR Doc. E6-3323 Filed 3-9-06; 8:45 am]

BILLING CODE 4165-15-P